DEPARTMENT OF THE INTERIOR

Bureau of Land Management

[LLWYR02000 L14400000.ER0000.17X, WYW-166003]

Notice of Intent To Prepare an Environmental Impact Statement for the Leavitt Reservoir Expansion Project, Big Horn County, Wyoming

AGENCY: Bureau of Land Management, Interior.

ACTION: Notice of Intent.

SUMMARY: Pursuant to the National Environmental Policy Act of 1969, as amended (NEPA), and the Federal Land Policy and Management Act of 1976, as amended (FLPMA), the Bureau of Land Management (BLM), through the Cody Field Office, Cody, Wyoming, intends to prepare an Environmental Impact Statement (EIS) for the proposed Leavitt Reservoir Expansion Project (Project) in Big Horn County, Wyoming. The BLM is announcing the beginning of the scoping process to solicit public comments and identify issues.

DATES: Comments may be submitted in writing until November 13, 2017. In order to be included in the analysis, all comments must be received prior to the close of the 45-day scoping period or 15 days after the last public meeting, whichever is later. The BLM will provide additional opportunities for public participation as appropriate. The dates and locations of any scoping meetings will be announced at least 15 days in advance through the local news media, newspapers, and the BLM ePlanning Web site at: http://bit.ly/Leavitt_Reservoir_EIS_2bcgpgW.

ADDRESSES: You may submit written comments by any of the following methods:

• Email: blm_wy_cody_comments@blm.gov.

• Fax: 307-578-5939.

• Mail: NEPA Coordinator, BLM Cody Field Office, 1002 Blackburn Street, Cody, Wyoming 82414.

Documents pertinent to this proposal are available for public review at the BLM Cody Field Office and on the BLM ePlanning Web site at: http://bit.ly/Leavitt_Reservoir_EIS_2bcgpgW.

FOR FURTHER INFORMATION CONTACT: Bradley Johnson, Planning & Environmental Coordinator, telephone: 307-578-5928; address: 1002 Blackburn Street, Cody, Wyoming 82414; email: bbjohnson@blm.gov. Persons who use a telecommunications device for the deaf (TDD) may call the Federal Relay Service (FRS) at 1-800-877-8339 to contact Mr. Johnson during normal business hours. The FRS is available 24 hours a day, 7 days a week, to leave a message or question with the above individual. You will receive a reply during normal business hours. You may call either of these numbers to have your name added to the project mailing list.

SUPPLEMENTARY INFORMATION: This Notice initiates the public scoping process for the EIS. The BLM intends to prepare an EIS to support the decision making for the proposed Project and conduct a public scoping period to seek input on the preliminary issues identified regarding this proposal. The Wyoming Water Development Commission proposes to enlarge the water storage capacity of Leavitt Reservoir to a total capacity of 6,604 acre feet for the purposes of multiple use that include late season irrigation, flood attenuation and recreation. A 1.5-mile sub-surface pipeline from Beaver Creek will divert water to the reservoir inlet via a 42-inch diameter pipeline across private lands. A permanent sub-surface transfer pipeline, approximately three miles long, is proposed downstream in the Beaver Creek drainage to efficiently convey reservoir release water to irrigation infrastructure.The proposal area is between the towns of Greybull and Shell, Wyoming, in the Sixth Principal Meridian, Wyoming, T. 54 N., R. 92 W., sec. 13, NW1/4SW1/4 and SW1/4SW1/4; sec. 14, NE1/4SE1/4 and SE1/4SE1/4; sec. 23, NE1/4NE1/4 and SE1/4NE1/4; sec. 24, lots 3 and 4, SW1/4NW1/4, SE1/4NW1/4, NW1/4SW1/4, NE1/4SW1/4, and SW1/4SE1/4.

Preliminary issues include: Potential impacts to wetlands and cultural sites (properties), ground and surface waters, mineral development, wildlife habitat, and the county road right-of-way. The BLM will identify, analyze, and require mitigation, as appropriate, to address the reasonably foreseeable impacts to resources from the approval of this Project. Mitigation may include avoidance, minimization, rectification, reduction or elimination over time, and compensatory mitigation; and may be considered at multiple scales, including the landscape-scale.

The BLM seeks resource information and data for public land values (e.g., air quality, cultural and historic resources, fire/fuels, fisheries, forestry, lands and realty, non-energy minerals and geology, oil and gas, paleontology, rangeland management, recreation, soil, water, and wildlife) in the project area. As proposed, approximately 48 percent of the project area would take place on BLM-managed public lands. The proposed dam and nearly the entirety of the expanded reservoir would reside on BLM lands. The proposed pipeline and borrow areas both cross or take place nearly in their entirety on private lands. The purpose of this request is to ensure that the project analysis has sufficient information and data to consider a reasonable range of resource uses, management options, and alternatives for managing public lands.

Please submit information to the Cody Field Manager at the address above. The BLM will treat proprietary information submissions marked as “Confidential” in accordance with the laws and regulations governing the confidentiality of such information. To provide the public with an opportunity to review the proposal and associated information, as well as any proposed plan amendments, the BLM will host meetings before October 30, 2017. The BLM will notify the public of meetings and any other opportunities for the public to be involved in the process for this proposal at least 15 days prior to the event. Meeting dates, locations and times will be announced by a news release to the media, individual emailings, and postings on the project Web site. The purpose of the public scoping process is to determine relevant issues that will influence the scope of the environmental analysis, including alternatives, and guide the process for developing the EIS.

The BLM will use and coordinate the NEPA commenting process to help fulfill the public involvement process under Section 106 of the National Historic Preservation Act (NHPA) (54 U.S.C. 306108), as provided for in 36 CFR 800.2(d)(3). The information about historic and cultural resources in the area potentially affected by the proposal will assist the lead agency in identifying and evaluating impacts to such resources in the context of both NEPA and Section 106 of the NHPA. Native American tribal consultations will be conducted in accordance with policy, and tribal concerns will be given due consideration. Federal, state and local agencies, along with other stakeholders that may be interested or affected by the BLM's decisions on this proposal, are invited to participate in the scoping process and, if eligible, may request or be requested by the BLM to participate as a cooperating agency.

Before including your address, phone number, email address or other personal identifying information in your comment, you should be aware that your entire comment—including your personal identifying information—may be made publicly available at any time. While you may ask us in your comment to withhold your personal identifying information from public review, we cannot guarantee that we will be able to do so.

Authority: 40 CFR 1501.7.

Mary Jo Rugwell,
BLM Wyoming State Director.

[FR Doc. 2017-21140 Filed 9-28-17; 8:45 am]

BILLING CODE 4310-22-P